Proclamation 7618 of October 31, 2002

National Diabetes Month, 2002

By the President of the United States of America

A Proclamation

Diabetes is a chronic disease that affects approximately 17 million Americans. During National Diabetes Month, we renew our commitment to preventing and eradicating this illness.

Diabetes interferes with the body's ability to process sugars normally and can lead to adverse complications of the eyes, heart, kidneys, or nerves. There are two major types of diabetes, and both have debilitating effects on organ systems. Type 1 diabetes, also known as juvenile diabetes, is an autoimmune disorder that destroys insulin-producing cells in the pancreas. The young people who are affected by this disease must maintain their health by taking insulin and carefully regulating their diets. Type 2 diabetes, which is also known as “adult onset diabetes,” is a metabolic disorder that is linked to a combination of genetics, excess weight, and lack of exercise. The most common form of diabetes is type 2, which comprises 95 percent of the diabetes cases in our Nation. It usually occurs in adults but now also affects a growing number of children who do not get enough exercise. At least 16 million Americans are currently at high risk of developing type 2 diabetes.

To ensure the future health of our Nation, Americans must safeguard our children and our families from diabetes by encouraging good health and regular exercise. Following the guidelines for good nutrition, getting enough physical exercise, and maintaining proper weight can help prevent diabetes and aid those suffering from it to reduce the chance of severe complications associated with the disease. Doctors have found that even minor weight loss in patients with type 2 diabetes can improve glucose control, decrease dependence on medications, and enhance quality of life.

My Administration is committed to fighting diabetes and its complications through advanced research funded by the National Institutes of Health (NIH), improved medical treatments, and education. In fiscal year 2002, the NIH dedicated approximately $781 million to diabetes research. My Administration will continue to support NIH's important efforts in this area as well as other scientists and researchers who are working to prevent, manage, and cure this disease. Through the National Diabetes Education Program, a joint effort of the NIH and the Centers for Disease Control and Prevention, we are educating Americans about the diabetes risk factors and encouraging them to make simple changes in their life that will help them stay healthy and prevent this serious disease. We are also working with volunteers from the American Diabetes Association, Juvenile Diabetes Research Foundation, and other organizations to raise awareness of diabetes in our communities and to provide assistance for families who have loved ones with diabetes.

As we observe National Diabetes Awareness Month, I encourage all Americans to help fight this disease by making healthy lifestyle choices and by providing support to those suffering from diabetes. We can help overcome diabetes and give hope and comfort to countless individuals in the United States and around the world.

NOW, THEREFORE, I, GEORGE W. BUSH, President of the United States of America, by virtue of the authority vested in me by the Constitution and laws of the United States, do hereby proclaim November 2002 as National Diabetes Month. I call on all Americans to increase their awareness of the risk factors and symptoms related to diabetes and to observe this month with appropriate programs and activities.

IN WITNESS WHEREOF, I have hereunto set my hand this thirty-first day of October, in the year of our Lord two thousand two, and of the Independence of the United States of America the two hundred and twenty-seventh.

B

[FR Doc. 02-28260

Filed 11-4-02; 8:45 am]

Billing code 3195-01-P